DEPARTMENT OF ENERGY

Federal Energy Regulatory Commission

[Docket Nos. ER04-449-000; RM02-1-000; RM02-1-001; and RM02-1-004]

New York Independent System Operator, Inc.; Notice of Meeting on New York Independent System Operator's Compliance With Order No. 2003

March 25, 2004.

The Commission hereby gives notice that members of its staff will meet with New York Independent System Operator, Inc. (NYISO) and New York Transmission Owners (NYTO) on March 30, 2004 from 10:30 a.m. to 12 p.m. The meeting will be held at the Commission, 888 First Street, NE., Washington, DC 20426. The purpose of the meeting is to discuss NYISO's and NYTO's joint compliance filing on Orders No. 2003 and 2003-A. The meeting is open to the public. Parties interested in further information about the meeting may contact Mary Agnes Nimis at (202) 502-8235.

During the course of the meeting, it is possible that the discussion may address matters pending in the above-captioned dockets.

Magalie R. Salas,
Secretary.

[FR Doc. E4-725 Filed 3-31-04; 8:45 am]

BILLING CODE 6717-01-P